DEPARTMENT OF THE INTERIOR

Bureau of Land Management

[WO-310-06-1310-EPAI]

Implementation of the Split Estate Section 1835 of the Energy Policy Act of 2005; Listening Sessions

AGENCY: Bureau of Land Management, Interior.

ACTION: Notice of public listening sessions.

SUMMARY: Listening sessions will be held by the Bureau of Land Management to solicit suggestions from the public on how best to implement the split estate provisions of the Energy Policy Act of 2005. Section 1835 of the Energy Policy Act directs the Secretary of the Interior to review current policies and practices for managing oil and gas resources in split estate situations, that is, how the BLM provides for oil and gas development and environmental protection where the surface estate is privately owned and the mineral estate is owned and administered by the Federal Government. The Act directs that this review be conducted in consultation with affected private surface owners, oil and gas industry, and other interested parties.

Dates and Locations: Listening Sessions will be scheduled during late March 2006 in Colorado, Montana, New Mexico, Wyoming, and Washington, DC. The BLM will announce exact times and locations through the local media, e-mail, and on the Split Estate Web site at: http://www.blm.gov/bmp at least 15 days prior to the listening sessions.

FOR FURTHER INFORMATION CONTACT: Jim Perry, Senior Natural Resource Specialist for the BLM Fluid Minerals Program at (202) 452-5063, or visit the Split Estate Web site at http://www.blm.gov/bmp.

SUPPLEMENTARY INFORMATION: The listening sessions will begin with an overview of the split estate provisions of the Energy Policy Act and current split estate practices, policies, regulations, and laws that guide management of the Federal mineral estate. Participants who request to speak will be provided a set amount of time to provide recommendations for managing oil and gas resources in split estate situations.

Dated: February 7, 2006.
Thomas P. Lonnie,
Assistant Director, Minerals, Realty and Resource Protection.

[FR Doc. E6-2092 Filed 2-14-06; 8:45 am]

BILLING CODE 4310-84-P